DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 65 FR 30125-26, dated May 10, 2000) is amended to retitle the Office of Data Processing and Services (ODPS), National Center for Health Statistics (NCHS), to the Office of Information Technology and Services, and revise the functional statement.

Section C-B, Organization and Functions, is hereby amended as follows:

Delete the title and functional statement for the Office of Data Processing and Services (CS3) and insert the following:

Office of Information Technology and Services (CS3). (1) Participates in the development of policy, long-range plans and programs of the Center; (2) Directs, plans and coordinates the Information Services and Information Technology Infrastructure of the Center; (3) Provides IRM policy coordination for the Center and IRM procurement approval authority for software, hardware and systems contract support; (4) Provides liaison with other public and private health agencies, foundations and statistical agencies on Information Technology and electronic data dissemination activities; and (5) Serves as the focal point for advanced Information Technology infrastructure research activities for NCHS-wide systems and in that capacity represents NCHS in developing technology partnerships with other agencies both public and private.

Dated: June 18, 2000.
Jeffrey P. Koplan,
Director.

[FR Doc. 00-16791 Filed 6-30-00; 8:45 am]

BILLING CODE 4160-18-M